DEPARTMENT OF HEALTH AND HUMAN SERVICES

Substance Abuse and Mental Health Services Administration (SAMHSA)

Notice of Meeting

Pursuant to Public Law 92-463, notice is hereby given of a meeting of the Center for Mental Health Services (CMHS) National Advisory Council on January 25 and 26, 2001.

A portion of the meeting will be open and will include a roll call, general announcements and panel discussions on racial and ethnic disparities in mental health, the role of communications in promoting mental health for children, communication efforts in promoting appropriate messages about mental illness. There will be an update from the subcommitte on consumer/survivor issues and a report of the Surgeon General's conference on children's mental health. Public comments are welcome during the open session. Please communicate with the individual listed as contact below for guidance.

The meeting will include the review, discussion, and evaluation of individual grant applications. Therefore a portion of the meeting will be closed to the public as determined by the Acting Administrator, SAMHSA, in accordance with title 5 U.S.C. 552b (c)(6) and 5 U.S.C. App. 2, section 10(d).

A summary of the meeting and a roster of Council members may be obtained from: Ms. Eileen Pensinger, M.Ed., Executive Secretary, CMHS National Advisory Council, 5600 Fishers Lane, Room 17C-27, Rockville, Maryland 20857, Telephone: (301) 443-4823.

Substantive program information may be obtained from the contact whose name and telephone number is listed below.

Committee Name: Center for Mental Health Services, National Advisory Council.

Meeting Date: January 25 and 26, 2001.

Place: Parklawn Building, 5600 Fishers Lane, Conference Room D, 3rd Floor, Rockville, Maryland 20857.

Closed: January 25, 2001, 9 a.m, to 10 a.m.

Open: January 25, 2001, 10:15 a.m. to 5 p.m.; January 26, 2001, 8:30 a.m. to 1 p.m.

Contact: Eileen Pensinger, M.Ed., Parklawn Building, 5600 Fishers Lane, Room 17C-27, Telephone: (301) 443-4823 and FAX: (301) 443-4864.

Dated: January 16, 2001.
Toian Vaughn,
Committee Management Officer, SAMHSA.

[FR Doc. 01-1871 Filed 1-22-01; 8:45 am]

BILLING CODE 4162-20-U